POSTAL SERVICE

International Product Change—Global Expedited Package Services—Non-Published Rates

AGENCY: Postal Service™

ACTION: Notice.

SUMMARY: The Postal Service gives notice of filing a request with the Postal Regulatory Commission to add Global Expedited Package Services Contracts—Non-Published Rates to the Competitive Products List pursuant to 39 U.S.C. 3642.

DATES: August 6, 2010.

FOR FURTHER INFORMATION CONTACT: Margaret M. Falwell, 703-292-3576.

SUPPLEMENTARY INFORMATION: The United States Postal Service® hereby gives notice that it has filed with the Postal Regulatory Commission a Request of the United States Postal Service to add Global Expedited Package Contracts—Non-Published Rates to the Competitive Products List, and Notice of Filing (Under Seal) of Contract and Enabling Governors' Decision. Documents are available at http://www.prc.gov, Docket Nos. MC2010-29 and CP2010-72.

Neva R. Watson,
Attorney, Legislative.

[FR Doc. 2010-19488 Filed 8-5-10; 8:45 am]

BILLING CODE 7710-12-P